DEPARTMENT OF COMMERCE

National Oceanic and Atmospheric Administration

[RTID 0648-XA493]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a 1-day meeting via webinar of its Reef Fish Advisory Panel (AP).

DATES: The meeting will be held on Tuesday, October 6, 2020, from 9 a.m. to 5:30 p.m., EDT.

ADDRESSES: The meeting will take place via webinar; you may register by visiting www.gulfcouncil.org and clicking on the Advisory Panel meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Tuesday, October 6, 2020; 9 a.m.-5:30 p.m., EDT

The meeting will begin with Introductions and Adoption of Agenda, and review of Scope of Work. The AP will review presentations, documents, Draft Reef Fish Amendment 53: Red Grouper Allocations and Annual Catch Levels and Targets, SEDAR 67: Gulf of Mexico Vermilion Snapper Stock Assessment, SEDAR 64: Southeastern U.S. Yellowtail Snapper Stock Assessment, Gray Triggerfish Interim Analysis, and Draft Reef Fish Framework Action: Modification of the Gulf of Mexico Lane Snapper Annual Catch Limit.

The AP will review a Public Hearing Draft Amendment 36B: Modifications to Commercial Individual Fishing Quota (IFQ) Programs, receive a presentation on Testing assumptions about sex change and spatial management in the protogynous gag grouper, Mycteroperca microlepis; and, receive public comments.

—Meeting Adjourns

The meeting will be broadcast via webinar. You may register for the webinar by visiting www.gulfcouncil.org and clicking on the AP meeting on the calendar.

The Agenda is subject to change, and the latest version along with other meeting materials will be posted on www.gulfcouncil.org as they become available.

Although other non-emergency issues not on the agenda may come before this group for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: September 14, 2020.
Tracey L. Thompson,
Acting Deputy Director, Office of Sustainable Fisheries, National Marine Fisheries Service.

[FR Doc. 2020-20535 Filed 9-16-20; 8:45 am]

BILLING CODE 3510-22-P